NUCLEAR REGULATORY COMMISSION

[Docket Nos. 50-325 and 50-324; License Nos. DPR-71 and DPR-62; NRC-2015-0100]

In the Matter of Duke Energy Progress, Inc., and North Carolina Eastern Municipal Power Agency; Brunswick Steam Electric Plant, Units 1 and 2

AGENCY: Nuclear Regulatory Commission.

ACTION: Direct transfer of licenses, order; issuance.

SUMMARY: The U.S. Nuclear Regulatory Commission (NRC) is issuing an Order to Duke Energy Progress, Inc. (Duke Energy) and North Carolina Eastern Municipal Power Agency (NCEMPA), approving the direct transfer of control of the Renewed Facility Operating License Nos. DPR-71 and DPR-62, and ownership interest for the Brunswick Steam Electric Plant (Brunswick), Units 1 and 2, to the extent currently held by NCEMPA. As a result of the transaction, Duke Energy will become the sole owner of the Brunswick facility and will hold 100 percent ownership of the facility. The conforming license amendments will remove references to NCEMPA. No physical changes to the facility or operational changes were proposed in the application and Duke Energy will remain as the licensed operator of the facility. This Order is effective upon issuance.

DATES: The Order was issued on July 6, 2015, and is effective for one year.

ADDRESSES: Please refer to Docket ID NRC-2015-0100 when contacting the NRC about the availability of information regarding this document. You may obtain publicly-available information related to this document using any of the following methods:

• Federal Rulemaking Web site: Go to http://www.regulations.gov and search for Docket ID NRC-2015-0100. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Martha Barillas, Office of Nuclear Reactor Regulation, U.S. Nuclear Regulatory Commission, Washington, DC 20555-0001; telephone: 301-415-2760, email: Martha.Barillas@nrc.gov.

SUPPLEMENTARY INFORMATION: The text of the Order is attached.

Dated at Rockville, Maryland, this 6th day of July 2015.
For the Nuclear Regulatory Commission.
Martha Barillas,
Project Manager, Plant Licensing Branch II-2, Division of Operator Reactor Licensing, Office of Nuclear Reactor Regulation.

UNITED STATES OF AMERICA

NUCLEAR REGULATORY COMMISSION

In the Matter of DUKE ENERGY PROGRESS, INC., NORTH CAROLINA EASTERN MUNICIPAL POWER AGENCY, Brunswick Steam Electric Plant Units 1 and 2

Docket Nos. 50-325 and 50-324

License Nos. DPR-71 and DPR-62

ORDER APPROVING DIRECT TRANSFER OF LICENSES AND APPROVING CONFORMING AMENDMENTS

I

Duke Energy Progress, Inc. (Duke Energy), and North Carolina Eastern Municipal Power Agency (NCEMPA), are the owners of Brunswick Steam Electric Plant (Brunswick), Unit Nos. 1 and 2. With respect to their ownership, they are co-holders of Renewed Facility Operating License Nos. DPR-71 and DPR-62. The Brunswick facility consists of two General Electric boiling-water reactors and an independent spent fuel storage installation (ISFSI), located in Brunswick County, North Carolina. The ISFSI is licensed under a general license pursuant to Title 10 of the Code of Federal Regulations (10 CFR) Part 50. The facility operating licenses authorize Duke Energy to possess, use, and operate the Brunswick facility.

II

By application dated December 22, 2014 (Agencywide Documents Access and Management System (ADAMS) Accession No. ML14358A253), as supplemented by letters dated March 4, 2015 (ADAMS Accession No. ML15075A102); June 1, 2015 (ADAMS Accession No. ML15152A205); June 10, 2015 (ADAMS Accession No. ML15161A289); and June 24, 2015 (ADAMS Accession No. ML15175A036), Duke Energy and NCEMPA requested, pursuant to 10 CFR, Section 50.80 (10 CFR 50.80), that the U.S. Nuclear Regulatory Commission (NRC) consent to the direct transfer of Operating License Nos. DPR-71 and DPR-62 for the Brunswick facility, to the extent currently held by NCEMPA, to co-owner Duke Energy.

The interest in Brunswick held by Duke Energy is 81.67 percent undivided ownership interest and that held by NCEMPA is 18.33 percent undivided ownership interest. Duke Energy is the licensed operator for the facility. Following approval of the proposed direct transfer of control of the licenses, Duke Energy will acquire NCEMPA's ownership interest in the facility and would hold 100 percent of the facility.

The applicant also requested approval of the conforming license amendments that would remove references to NCEMPA in the licenses. The proposed direct transfer of control of the Brunswick operating licenses will not result in any change in the role of Duke Energy as the licensed operator and owner of the licensed facility and will not result in any changes to its financial qualifications, decommissioning funding assurance, or technical qualifications.

Approval of the direct transfer of the facility operating licenses was requested by Duke Energy and NCEMPA pursuant to 10 CFR 50.80 and 50.90. A notice entitled, “Notice of Consideration of Approval of Transfer of Licenses and Conforming Amendment,” was published in the Federal Register on April 21, 2015 (80 FR 22228). No comments or hearing requests were received.

Under 10 CFR 50.80, no license, or any right thereunder, shall be transferred, directly or indirectly, through transfer of control of the license, unless the Commission gives its consent in writing. Upon review of the information in the licensee's application, and other information before the Commission, the NRC staff has determined that Duke Energy is qualified to hold 100 percent of the license as proposed by the transfer of NCEMPA's 18.33 percent ownership interests, and that the transfer of the licenses is otherwise consistent with the applicable provisions of law, regulations, and orders issued by the NRC, and subject to the conditions set forth below. The NRC staff has further found that the application for the proposed license amendments complies with the standards and requirements of the Atomic Energy Act of 1954, as amended (the Act), and the Commission's rules and regulations set forth in 10 CFR Chapter I; the facility will operate in conformity with the application, the provisions of the Act and the rules and regulations of the Commission; there is reasonable assurance that the activities authorized by the proposed license amendments can be conducted without endangering the health and safety of the public and that such activities will be conducted in compliance with the Commission's regulations; the issuance of the proposed license amendments will not be inimical to the common defense and security or to the health and safety of the public; and the issuance of the proposed amendments will be in accordance with 10 CFR part 51 of the Commission's regulations and all applicable requirements have been satisfied. The findings set forth above are supported by a safety evaluation dated July 6, 2015.

III

Accordingly, pursuant to Sections 161b, 161i, 161.o, and 184 of the Atomic Energy Act of 1954, as amended (the Act), 42 U.S.C. Sections 2201(b), 2201(i), 2201(o), and 2234; and 10 CFR 50.80, IT IS HEREBY ORDERED that the application regarding the proposed direct license transfers are approved, subject to the following condition:

1. Duke Energy shall provide satisfactory documentary evidence to the Director of the Office of Nuclear Reactor Regulation that it has obtained the appropriate amount of insurance required of a licensee under 10 CFR part 140 within 30 days of the transfer.

IT IS FURTHER ORDERED that consistent with 10 CFR 2.1315(b), the license amendments that make changes, as indicated in Enclosure 4 to the cover letter forwarding this order, to reflect the subject direct transfer, are approved. The amendments shall be issued and made effective at the time the proposed direct transfer action is completed.

IT IS FURTHER ORDERED that after receipt of all required regulatory approvals of the proposed direct transfer action, Duke Energy shall inform the Director of the Office of Nuclear Reactor Regulation in writing of such receipt no later than 2 business days prior to the date of the closing of the direct transfer. Should the proposed direct transfer not be completed within 1 year of this order's date of issue, this order shall become null and void. However, upon written application and good cause shown, such date may be extended by order.

This order is effective upon issuance.

For further details with respect to this order, see the initial application dated December 22, 2014 (ADAMS Accession No. ML14358A253), as supplemented by letters dated March 4, 2015 (ADAMS Accession No. ML15075A102); June 1, 2015 (ADAMS Accession No. ML15152A205); June 10, 2015 (ADAMS Accession No. ML15161A289); and June 24, 2015 (ADAMS Accession No. ML15175A036), and the safety evaluation dated July 6, 2015 (ADAMS Accession No. ML15159A632), which are available for public inspection at the NRC's Public Document Room (PDR), located at One White Flint North, Public File Area O1-F21, 11555 Rockville Pike, Rockville, Maryland 20852. You may obtain publicly-available documents online in the ADAMS Public Documents collection at http://www.nrc.gov/reading-rm/adams.html. Persons who do not have access to ADAMS, or who encounter problems in accessing the documents located in ADAMS, should contact the NRC's PDR reference staff at 1-800-397-4209 or 301-415-4737 or by email to pdr.resource@nrc.gov.

Dated at Rockville, Maryland, this 6th day of July 2015.
For the Nuclear Regulatory Commission.
William M. Dean,
Director, Office of Nuclear Reactor Regulation.

[FR Doc. 2015-17279 Filed 7-13-15; 8:45 am]

BILLING CODE 7590-01-P